FEDERAL COMMUNICATIONS COMMISSION

[CC Docket No. 02-35; FCC 02-147]

Joint Application by BellSouth Corporation, BellSouth Telecommunications, Inc., and BellSouth Long Distance, Inc., Pursuant to Section 271 of the Telecommunications Act of 1996, For Provision of In-Region, InterLATA Services in the States of Georgia and Louisiana

AGENCY: Federal Communications Commission

ACTION: Notice.

SUMMARY: In the document, the Federal Communications Commission grants the section 271 application of BellSouth Corporation, et al. (BellSouth) for authority to enter the interLATA telecommunications market in the states of Georgia and Louisiana. The Commission grants BellSouth's application based on its conclusion that BellSouth has satisfied all of the statutory requirements for entry, and opened its local exchange markets to full competition.

DATES: Effective May 24, 2002.

FOR FURTHER INFORMATION CONTACT: Rene Crittendon, Senior Attorney Advisor, Wireline Competition Bureau, at (202) 418-1580 or via the Internet at rcrittendon@fcc.gov. The complete text of this Memorandum Opinion and Order is available for inspection and copying during normal business hours in the FCC Reference Information Center, Portals II, 445 12th Street, SW., Room CY-A257, Washington, DC 20554. Further information may also be obtained by calling the Common Carrier Bureau's TTY number: (202) 418-0484.

SUPPLEMENTARY INFORMATION: This is a summary of the Commission's Memorandum Opinion and Order (MO&O) in CC Docket No. 02-35, FCC 02-147, adopted May 15, 2002, and released May 15, 2002. This full text may be purchased from the Commission's duplicating contractor, Qualex International, Portals II, 445 12th Street, SW., Room CY-B402, Washington, DC 20554, telephone 202-863-2893, facsimile 202-863-2898, or via e-mail qualexint@aol.com. It is also available on the Commission's website at http://www.fcc.gov/Bureaus/Common_Carrier/ in-region_applications/bellsouth_gala/welcome.html.

Synopsis of the Order

1. History of the Application. On February 14, 2002, BellSouth filed a joint application, pursuant to section 271 of the Telecommunications Act of 1996, with the Commission to provide in-region, interLATA service in Georgia and Louisiana.

2. The Georgia and Louisiana Public Service Commissions' Evaluations. Both the Georgia Public Service Commission (Georgia Commission) and the Louisiana Public Service Commission (Louisiana Commission) advised the Commission, following an extensive review process, that BellSouth met the checklist requirements of section 271 and has taken the statutorily required steps to open its local markets to competition. Consequently, the Georgia Commission and the Louisiana Commission recommended that the Commission approve BellSouth's in-region, interLATA entry in its March 4, 2002 evaluation of the Georgia and Louisiana Application.

3. The Department of Justice's Evaluation. The Department of Justice filed its evaluation of BellSouth's Georgia/Louisiana Application on March 19, 2002. It recommended approval of the application subject to the Commission's review of improvements in BellSouth's operations support systems (OSS).

Primary Issues in Dispute

4. Checklist Item 2—Unbundled Network Elements. Based on the record, the Commission finds that BellSouth has provided “nondiscriminatory access to network elements in accordance with the requirements of sections 251(c)(3) and 252(d)(1)” of the Act in compliance with checklist item 2.

5. The Commission finds that BellSouth UNE rates in Georgia and Louisiana are just, reasonable, and nondiscriminatory, and are based on cost plus a reasonable profit as required by section 252(d)(1). Thus, BellSouth UNE rates in Georgia and Louisiana satisfy checklist item 2. Because the Commission has not previously approved a section 271 application of BellSouth, it conducts a stand-alone analysis of BellSouth's rates, in which it reviews the rates from the “bottom up” to ensure they comply with our TELRIC standards rather than engaging in any benchmarking or other state comparisons. The Commission has previously noted that different states may reach different results that are each within the range of what a reasonable application of TELRIC would produce. After reviewing commenters' criticism of loop rate issues (including use of Universal Digital Loop Carrier and Integrated Digital Loop Carrier, loading factors and fill factors), switching rate issues and Daily Usage File (DUF) rates, the Commission concludes that the Georgia and Louisiana Commissions followed basic TELRIC principles and there is insufficient evidence to demonstrate that the state commissions committed clear error.

6. The Commission also concludes that BellSouth meets it obligation to provide access to its OSS—the systems, databases, and personnel necessary to support the network elements or services. Nondiscriminatory access to OSS ensures that new entrants have the ability to order service for their customers and communicate effectively with BellSouth regarding basic activities such as placing orders and providing maintenance and repair services for customers. The Commission finds that, for each of the primary OSS functions (pre-ordering, ordering, provisioning, maintenance and repair, and billing, as well as change management and technical assistance), BellSouth provides access that enables competing carriers to perform the functions in substantially the same time and manner as BellSouth or, if there is not an appropriate retail analogue in BellSouth's systems, in a manner that permits an efficient competitor a meaningful opportunity to compete.

7. Pursuant to this checklist item, BellSouth must also provide nondiscriminatory access to network elements in a manner that allows other carriers to combine such elements. Based on the evidence in the record, and upon BellSouth's legal obligations under interconnection agreements, BellSouth demonstrates that it provides to competitors combinations of already-combined network element as well as nondiscriminatory access to unbundled network elements in a manner that allows competing carriers to combine those elements themselves.

Other Checklist Items

8. Checklist Item 1—Interconnection. Based on the evidence in the record, the Commission concludes that BellSouth demonstrates that it provides interconnection in accordance with the requirements of section 251(c)(2) and as specified in section 271 and applied in the Commission's prior orders. Pursuant to this checklist item, BellSouth must allow other carriers to interconnect their networks to its network for the mutual exchange of traffic, using any available method of interconnection at any available point in BellSouth's network.

9. BellSouth also demonstrates that its collocation offerings in Georgia and Louisiana satisfy the requirements of sections 251 and 271 of the Act and are in compliance with the Commission's recent Collocation Remand Order. BellSouth demonstrates that it offers interconnection in Georgia and Louisiana to other telecommunications carriers at just, reasonable, and nondiscriminatory rates, in compliance with checklist item 1.

10. Checklist Item 4—Unbundled Local Loops. BellSouth has adequately demonstrated that it provides unbundled local loops as required by section 271. More specifically, BellSouth establishes that it provides access to loop make-up information in compliance with the UNE Remand Order and nondiscriminatory access to stand alone xDSL-capable loops and high-capacity loops. Also, BellSouth provides voice grade loops, both as new loops and through hot-cut conversions, in a nondiscriminatory manner. Finally, BellSouth has demonstrated that it has a line-sharing and line-splitting provisioning process that affords competitors nondiscriminatory access to these facilities.

11. Checklist Item 5—Unbundled Local Transport. Section 271(c)(2)(B)(v) of the competitive checklist requires a BOC to provide “local transport from the trunk side of a wireline local exchange carrier switch unbundled from switching or other services.” The Commission concludes, based upon the evidence in the record, that BellSouth demonstrates that it provides unbundled local transport, in compliance with the requirements of checklist item 5.

12. Checklist Item 6—Unbundled Local Switching. Based on the Commission's review of the record, it concludes that BellSouth provides (1) line-side and trunk side facilities; (2) basic switching function; (3) vertical features; (4) customized routing; (5) shared trunk ports; (6) unbundled tandem switching; (7) usage information for billing exchange access; and (8) usage information for billing for reciprocal compensation in compliance with checklist item 6.

13. Checklist Item 7—911/E911 Access and Directory Assistance/Operation Services. Based on the Commission's review of the record, it finds that BellSouth provides non-discriminatory access to 911 and E911 services and access to directory assistance services to allow the other carrier's customers to obtain telephone numbers and operator call completion services in compliance with checklist item 7.

14. Checklist Item 8—White Pages. Based on the record, the Commission finds that BellSouth provides white page directory listings for customers of the other carrier's telephone exchange service and permits competitive providers of telephone exchange service and toll service to have access to directory listings in compliance with checklist item 8.

15. Checklist Item 11—Number Portability. The Commission finds that BellSouth complies with checklist item 11 in that it provides, to the extent technically feasible, number portability.

16. Checklist Item 12—Local Dialing Parity. Based on the evidence in the record, the Commission concludes that BellSouth provides nondiscriminatory access to such services or information as are necessary to allow the requesting carrier to implement local dialing parity in accordance with the requirements of section 251(b)(3) of the Act in compliance with checklist item 12.

17. Checklist Item 13—Reciprocal Compensation. The Commission finds that BellSouth demonstrates that it provides reciprocal compensation as required by checklist item 13.

18. Checklist Item 14—Resale. Based on the evidence in the record, the Commission concludes that BellSouth demonstrates that it makes telecommunications services, including DSL resale, available in Georgia and Louisiana for resale, in accordance with sections 251(c)(4) and 252(d)(3), and thus satisfies the requirements for checklist item 14.

19. Checklist Items 3, 9 and 10. An applicant under section 271 must demonstrate that it complies with checklist item 3 (poles, ducts, conduits, and rights of way), item 9 (numbering administration), and item 10 (databases and associated signaling). Based on the evidence in the record, and in accordance with Commission rules and orders concerning compliance with section 271 of the Act, the Commission concludes that BellSouth demonstrates that it is in compliance with checklist items 3, 9, and 10 in Georgia and Louisiana. Both the Georgia Commission and the Louisiana Commission also conclude that BellSouth complies with the requirements of each of these checklist items.

Other Statutory Requirements

20. Compliance with Section 271(c)(1)(A). The Commission concludes that BellSouth demonstrates that it satisfies the requirements of section 271(c)(1)(A) based on the interconnection agreements it has implemented with competing carriers in Georgia and Louisiana. The record demonstrates that competitive LECs serve some business and residential customers using predominantly their own facilities.

21. Section 272 Compliance. BellSouth has demonstrated that it complies with the requirements of section 272.

22. Public Interest Analysis. The Commission concludes that approval of this application is consistent with the public interest. It views the public interest requirement as an opportunity to review the circumstances presented by the applications to ensure that no other relevant factors exist that would frustrate the congressional intent that markets be open, as required by the competitive checklist, and that entry will therefore serve the public interest as Congress expected. While no one factor is dispositive in this analysis, the Commission's overriding goal is to ensure that nothing undermines its conclusion that markets are open to competition.

23. The Commission finds that, consistent with its extensive review of the competitive checklist, barriers to competitive entry in the local market have been removed and the local exchange market today is open to competition. The Commission also finds that the record confirms our view that a BOC's entry into the long distance market will benefit consumers and competition if the relevant local exchange market is open to competition consistent with the competitive checklist.

24. The Commission also finds that the performance monitoring and enforcement mechanisms developed in Georgia and Louisiana, in combination with other factors, provide meaningful assurance that BellSouth will continue to satisfy the requirements of section 271 after entering the long distance market.

25. Section 271(d)(6) Enforcement Authority. Working with the Georgia and Louisiana Commissions, the Commission intends to monitor closely post-entry compliance and to enforce the provisions of section 271 using the various enforcement tools Congress provided us in the Communications Act.

Federal Communications Commission.
Marlene H. Dortch,
Secretary.

[FR Doc. 02-12978 Filed 5-22-02; 8:45 am]

BILLING CODE 6712-01-P